DEPARTMENT OF DEFENSE

Office of the Secretary

Reserve Forces Policy Board (RFPB); Notice of Cancellation and Rescheduling of Federal Advisory Committee Meeting

AGENCY: Department of Defense; Office of the Secretary of Defense, Reserve Forces Policy Board.

ACTION: Notice of Advisory Committee Meeting cancellation and rescheduling of meeting.

SUMMARY: On February 19, 2013 (78 FR 11631-11632), the Reserve Forces Policy Board (RFPB) announced a meeting to be held on Wednesday, March 6, 2013, from 8:20 a.m. to 3:50 p.m. in the Pentagon. Due to weather conditions and a federal government shutdown, the scheduled March 6, 2013 Board meeting is rescheduled for April 3, 2013. Under the provisions of the Federal Advisory Committee Act of 1972 (5 U.S.C., Appendix, as amended), the Government in the Sunshine Act of 1976 (5 U.S.C. 552b, as amended), and 41 CFR 102-3.150, the Department of Defense announces the following rescheduled Federal advisory committee meeting of the Reserve Forces Policy Board will take place.

DATES: Wednesday, April 3, 2013, from 8:45 a.m. to 11:15 a.m.

ADDRESSES: The Reserve Forces Policy Board Conference Room, 5113 Leesburg Pike, Skyline Four, Suite 601, Falls Church, Virginia 22041.

FOR FURTHER INFORMATION CONTACT: Captain Steven Knight, Designated Federal Officer, (703) 681-0608 (Voice), (703) 681-0002 (Facsimile), RFPB@osd.mil. Mailing address is Reserve Forces Policy Board, 5113 Leesburg Pike, Suite 601, Falls Church, VA 22041. Web site: http://ra.defense.gov/rfpb/. The most up-to-date changes to the meeting can be found on the RFPB Web site.

SUPPLEMENTARY INFORMATION: Purpose of the Meeting: Due to weather conditions and a federal government shutdown, the scheduled March 6, 2013 Board meeting is rescheduled to April 3, 2013. The purpose of the meeting is to obtain, review and evaluate information related to strategies, policies, and practices designed to improve and enhance the capabilities, efficiency, and effectiveness of the reserve components.

Agenda: The Reserve Forces Policy Board will hold a meeting from 8:45 a.m. until 11:15 a.m. The meeting will be open to the public. The meeting will address the following topics: RFPB Cost Methodology Project update, RFPB Subcommittee presentations and a Secretary of Defense Strategic Question Task Group presentation. The Board may deliberate on the findings of the presentations and approve recommendations to the Secretary of Defense.

Meeting Accessibility: Pursuant to 5 U.S.C. 552b, as amended, and 41 CFR 102-3.140 through 102-3.165, and the availability of space, the open portion of the meeting is open to the public. To request a seat at the meeting, interested persons must email or phone the Designated Federal Officer not later than April 2, 2013 as listed in the FOR FURTHER INFORMATION CONTACT section.

Written Statements: Pursuant to 41 CFR 102-3.105(j) and 102-3.140 and section 10(a)(3) of the Federal Advisory Committee Act, interested persons may submit written statements to the Reserve Forces Policy Board at any time. Written statements should be submitted to the Reserve Forces Policy Board's Designated Federal Officer at the address, via email, or facsimile number listed in the FOR FURTHER INFORMATION CONTACT section. If statements pertain to a specific topic being discussed at a planned meeting, then these statements must be submitted no later than two (2) business days prior to the meeting in question. Written statements received after this date may not be provided to or considered by the Reserve Forces Policy Board until its next meeting. The Designated Federal Officer will review all timely submitted written statements and provide copies to all the committee members before the meeting that is the subject of this notice.

Due to difficulties, beyond the control of the Reserve Forces Policy Board or its Designated Federal Officer, the Board was unable to file a Federal Register notice for the April 3, 2013 meeting of the Reserve Forces Policy Board as required by 41 CFR 102-3.150(a). Accordingly, the Advisory Committee Management Officer for the Department of Defense, pursuant to 41 CFR 102-3.150(b), waives the 15-calendar day notification requirement.

Dated: March 22, 2013.
Aaron Siegel,
Alternate OSD Federal Register Liaison Officer, Department of Defense.

[FR Doc. 2013-07021 Filed 3-26-13; 8:45 am]

BILLING CODE 5001-06-P